DEPARTMENT OF JUSTICE

Notice of Lodging Proposed Consent Decree

In accordance with Departmental Policy, 28 CFR 50.7, notice is hereby given that a proposed Consent Decree in United States v. Zelmer, Inc., and Spencer Heights, L.L.C., civil case number 09-4072, was lodged with the United States District Court for the District of South Dakota, Southern Division on May 21, 2009.

This proposed Consent Decree concerns a complaint filed by the United States against Zelmer, Inc., and Spencer Heights, L.L.C., pursuant to the Clean Water Act (“CWA”), 33 U.S.C. 1319(b) and (d), to obtain injunctive relief from and impose civil penalties against Zelmer, Inc., and Spencer Heights, L.L.C., for violating the Clean Water Act by discharging pollutants without a permit into waters of the United States, 33 U.S.C. 1311(a); for the violation of the conditions of the South Dakota General Permit for Storm Water Discharges Associated with Construction Activities; for the violations of orders issued to Defendants by the United States Environmental Protection Agency; and for failing to provide information in violation of 33 U.S.C. 1318. The proposed Consent Decree resolves these allegations by requiring the Defendants to restore the impacted areas, perform mitigation, implement a storm water compliance program and to pay a civil penalty.

The Department of Justice will accept written comments relating to this proposed Consent Decree for thirty (30) days from the date of publication of this Notice. Please address comments to: Alan D. Greenberg, 1961 Stout Street, 8th Floor, Denver, Colorado 80294 and refer to United States v. Zelmer, Inc., and Spencer Heights, L.L.C., DJ number 90-5-1-1-17707.

The proposed Consent Decree may be examined at the Clerk's Office, United States District Court for the District of South Dakota, Southern Division, 400 South Phillips Avenue, Sioux Falls, SD 57104. In addition, the proposed Consent Decree may be viewed at http://www.usdoj.gov/enrd/Consent_Decrees.html.

Maureen M. Katz,
Assistant Section Chief, Environment & Natural Resources Division.

[FR Doc. E9-12584 Filed 5-29-09; 8:45 am]

BILLING CODE P